DEPARTMENT OF LABOR

Office of the Secretary

Senior Executive Service; Appointment of Members to the Performance Review Board

Title 5 U.S.C. 4314(c)(4) provides that Notice of the Appointment of the individual to serve as a member of the Performance Review Board of the Senior Executive Service shall be published in the Federal Register.

The following individuals are hereby appointed to serve on the Department's Performance Review Board:

Permanent Membership

Chair—Deputy Secretary—Christopher P. Lu

Vice-Chair—Assistant Secretary for Administration and Management—T. Michael Kerr

Alternate Vice-Chair—Director, Human Resources Center—Sydney T. Rose

Executive Secretary—Director, Executive Resources—Lucy Cunningham

Performance Officer—Director, Performance Management Center—Holly A. Donnelly

Rotating Membership—Appointments Expire on 09/30/16

BLS Jay A. Mousa, Associate Commissioner for Office of Field Operations

BLS Nancy F. Ruiz de Gamboa, Assistant Commissioner for Office of Administration

ETA Leslie G. Range, Regional Administrator, Atlanta

MSHA Patricia W. Silvey, Deputy Assistant Secretary for Operations

OASAM Cheryl A. Greenaugh, Director, Chief Information Program Management Office

OASAM Charlotte A. Hayes, Deputy Assistant Secretary for Policy

OASAM Naomi M. Barry-Perez, Director, Civil Rights Center

OFCCP Debra A. Carr, Division of Policy, Planning and Program Development

OFCCP Diana S. Sen, Regional Director, New York

OLMS Stephen J. Willertz, Director, Office of Enforcement and International Union Audits

OWCP Antonio A. Rios, Director, Longshore and Harbor Workers' Compensation Program

SOL Michael D. Felsen, Regional Solicitor, Boston

SOL Jeffrey L. Nesvet, Associate Solicitor for Employment and Training Legal Services

WB Joan Y. Harrigan-Farrelly, Deputy Director

WHD Patricia J. Davidson, Deputy Administrator, Office of Program Operations

FOR FURTHER INFORMATION CONTACT: Ms. Lucy Cunningham, Director, Office of Executive Resources, Room N2453, U.S. Department of Labor, Frances Perkins Building, 200 Constitution Ave. NW., Washington, DC 20210, telephone: (202) 693-6624.

Signed at Washington, DC on 19th day of August 2015.
Thomas E. Perez,
Secretary of Labor.

[FR Doc. 2015-21070 Filed 8-25-15; 8:45 am]

BILLING CODE 4510-23-P